DEPARTMENT OF TRANSPORTATION

Federal Aviation Administration

14 CFR Part 39

[Docket No. FAA-2025-0910; Project Identifier MCAI-2023-01167-R]

RIN 2120-AA64

Airworthiness Directives; Airbus Helicopters

AGENCY: Federal Aviation Administration (FAA), DOT.

ACTION: Notice of proposed rulemaking (NPRM).

SUMMARY: The FAA proposes to supersede Airworthiness Directive (AD) 2020-06-13, which applies to certain Airbus Helicopters Model AS332C, AS332C1, AS332L, and AS332L1 helicopters. AD 2020-06-13 requires determining the accumulated hours time-in-service (TIS) of certain part-numbered main gearbox (MGB) suspension bar rear attachment fittings (fittings) and bolts and establishes reduced life limits. Since the FAA issued AD 2020-06-13, it was determined that modifying the MGB suspension bar fittings link and installing improved MGB suspension bar fitting bolts are necessary. This proposed AD would require modifying the MGB suspension bar link, installing newly-designed bolts, and prohibit installing certain parts. The FAA is proposing this AD to address the unsafe condition on these products.

DATES: The FAA must receive comments on this NPRM by July 7, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0910; or in person at Docket Operations between 9 a.m. and 5 p.m., Monday through Friday, except Federal holidays. The AD docket contains this NPRM, the mandatory continuing airworthiness information (MCAI), any comments received, and other information. The street address for Docket Operations is listed above.

Material Incorporated by Reference:

• For EASA material identified in this proposed AD, contact EASA, Konrad-Adenauer-Ufer 3, 50668 Cologne, Germany; phone: +49 221 8999 000; email: ADs@easa.europa.eu; website: easa.europa.eu. You may find this material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-0910.

FOR FURTHER INFORMATION CONTACT: Camille Seay, Aviation Safety Engineer, FAA, 1600 Stewart Avenue, Suite 410, Westbury, NY 11590; phone: (817) 222-5149; email: camille.l.seay@faa.gov.

SUPPLEMENTARY INFORMATION:

Comments Invited

The FAA invites you to send any written relevant data, views, or arguments about this proposal. Send your comments to an address listed under the ADDRESSES section. Include “Docket No. FAA-2025-0910; Project Identifier MCAI-2023-01167-R” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Camille Seay, Aviation Safety Engineer, FAA, 1600 Stewart Avenue, Suite 410, Westbury, NY 11590. Any commentary that the FAA receives which is not specifically designated as CBI will be placed in the public docket for this rulemaking.

Background

The FAA issued AD 2020-06-13, Amendment 39-19882 (85 FR 19080, April 6, 2020) (AD 2020-06-13), for Airbus Helicopters Model AS332C, AS332C1, AS332L, and AS332L1 helicopters with an MGB suspension bar right-hand (RH) side rear fitting part number (P/N) 330A22-2702-07 and bolt P/N 330A22-0135-20, MGB suspension bar left-hand (LH) side rear fitting P/N 330A22-2702-06 and bolt P/N 330A22-0135-20, or MGB suspension bar front bolt P/N 330A22-0134-20 installed. AD 2020-06-13 was prompted by an MCAI originated by EASA, which is the Technical Agent for the Member States of the European Union. EASA issued AD 2018-0260, dated December 3, 2018 (EASA AD 2018-0260), to address MGB suspension bar fittings and bolts remaining in service beyond their fatigue life. From review of reported Model EC 225 LP data, EASA advised that the installation of the MGB upper deck fittings of the three MGB suspension bars (front, RH side rear, and LH side rear) could lead to tightening torque loss on the fittings' attachment screws (bolts). Due to design similarities, Model AS 332 C, AS 332 C1, AS 332 L, and AS 332 L1 helicopters could also be affected by the same installation condition.

AD 2020-06-13 requires determining the total hours TIS of the MGB suspension bar RH side and LH side rear fittings, removing these fittings and bolts from service based on the accumulated total hours TIS and other conditions, and thereafter removing these fittings and bolts from service within specific intervals. AD 2020-06-13 also requires removing the front bolts from service during each major inspection “G.” The FAA issued AD 2020-06-13 to prevent failure of an MGB attachment assembly, detachment of an MGB suspension bar, and consequent loss of helicopter control.

Actions Since AD 2020-06-13 Was Issued

Since the FAA issued AD 2020-06-13, EASA superseded EASA AD 2018-0260 and issued EASA AD 2023-0194, dated November 8, 2023 (EASA AD 2023-0194), to address an unsafe condition on all Airbus Helicopters Model AS 332 C, AS 332 C1, AS 332 L, and AS 332 L1 helicopters. EASA AD 2023-0194 stated that, following the loss of tightening torque of the attachment screws of the upper deck fittings of the three MGB suspension bars and previous interim action, Airbus Helicopters developed modification (mod) 0728496 (for helicopters with machined frames) and mod 0729200 (for helicopters with sheet metal frames), which improve the link of the fittings of the MGB suspension bars and include improved fitting screws. After EASA issued EASA AD 2023-0194, EASA superseded EASA AD 2023-0194 with EASA AD 2023-0194R1 Revision 1, dated March 19, 2025 (EASA AD 2023-0194R1) (also referred to as the MCAI). The MCAI states that since EASA AD 2023-0194 was issued, a new risk analysis determined the calendar time compliance time for the modification can be extended. The MCAI further states that EASA AD 2023-0194R1 is considered to be an interim action. This condition, if not addressed, could lead to structural failure of an MGB attachment assembly, detachment of an MGB suspension bar, and consequent loss of control of the helicopter.

The FAA is proposing this AD to address the unsafe condition on these products. You may examine the MCAI in the AD docket at regulations.gov under Docket No. FAA-2025-0910.

Material Incorporated by Reference Under 1 CFR Part 51

The FAA reviewed EASA AD 2023-0194R1, which specifies procedures for determining the accumulated service life of the RH side and LH side rear fittings of the MGB suspension bars and repetitively replacing the RH side and LH side rear fittings and screws before exceeding accumulated service life limits. As an alternative to the first replacement of the RH side rear fittings and screws, if certain conditions are met, EASA AD 2023-0194R1 allows measuring the tightening torque, and depending on the measurement results, replacing affected parts with serviceable parts within extended compliance times. EASA AD 2023-0194R1 also specifies procedures for replacing each MGB front fitting screw at the next major inspection (G) and modifying the helicopter to improve the link of the fittings of the MGB suspension bar, which includes installing MGB fitting screws with an improved design. EASA AD 2023-0194R1 prohibits installing certain parts on any helicopter. Finally, EASA AD 2023-0194R1 specifies procedures for a terminating action if the helicopter has been modified as defined in EASA AD 2023-0194R1 and provides credit for certain previously accomplished requirements.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this NPRM after determining that the unsafe condition described previously is likely to exist or develop on other products of the same type design.

Proposed AD Requirements in This NPRM

This proposed AD would retain none of the requirements of AD 2020-06-13. This proposed AD would require accomplishing the actions specified in EASA AD 2023-0194R1, described previously, as incorporated by reference, except for any differences identified as exceptions in the regulatory text of this proposed AD. See “Differences Between this AD and the MCAI” for a discussion of the general differences included in this AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2023-0194R1 by reference in the FAA final rule. This proposed AD would, therefore, require compliance with EASA AD 2023-0194R1 in its entirety through that incorporation, except for any differences identified as exceptions in the regulatory text of this proposed AD. Using common terms that are the same as the heading of a particular section in EASA AD 2023-0194R1 does not mean that operators need comply only with that section. For example, where the AD requirement refers to “all required actions and compliance times,” compliance with this AD requirement is not limited to the section titled “Required Action(s) and Compliance Time(s)” in EASA AD 2023-0194R1. Material referenced in EASA AD 2023-0194R1 for compliance will be available at regulations.gov under Docket No. FAA-2025-0910 after the FAA final rule is published.

Differences Between This Proposed AD and the MCAI

Where the MCAI allows an option of an inspection of the torque instead of replacement of the first MGB RH side rear fitting, which includes different replacement compliance times based on the torque inspection results, this proposed AD would not.

Costs of Compliance

The FAA estimates that this AD, if adopted as proposed, would affect eight helicopters of U.S. registry. Labor rates are estimated at $85 per hour. Based on these numbers, the FAA estimates the following costs to comply with this proposed AD.

Determining the total hours TIS of the rear MGB fittings would take 0.5 work-hour for an estimated cost of $43 per helicopter and $344 for the U.S. fleet.

Replacing a RH rear MGB fitting and its set of four bolts would take 8 work-hours and parts would cost $3,589 for an estimated cost of $4,269 per helicopter and $34,152 for the U.S. fleet, per replacement cycle.

Replacing a set of four LH rear MGB fitting bolts would take 4 work-hours and parts would cost $100 for an estimated cost of $440 per helicopter and $3,520 for the U.S. fleet, per replacement cycle.

Replacing a LH rear MGB fitting would take 8 work-hours and parts would cost $3,807 for an estimated cost of $4,487 per helicopter and $35,896 for the U.S. fleet, per replacement cycle.

Replacing a set of front MGB fitting bolts (4 bolts per set) would take about 8 work-hours and parts would cost $98 for an estimated cost of $778 per helicopter and $6,224 for the U.S. fleet, per replacement cycle.

Modifying the MGB suspension bar (LH side and RH side) would take 56 work-hours and parts would cost $115,509 for an estimated cost of $120,269 per helicopter.

The extent of corrective action that may needed if there is damage, a crack, or insufficient clearance found while modifying the MGB suspension bar could vary significantly from helicopter to helicopter. The FAA has no way of determining the cost to correct or repair each helicopter or the number of helicopters that may require repair.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2020-06-13, Amendment 39-19882 (85 FR 19080, April 6, 2020); and

b. Adding the following new airworthiness directive:

Airbus Helicopters: Docket No. FAA-2025-0910; Project Identifier MCAI-2023-01167-R.

(a) Comments Due Date

The FAA must receive comments on this airworthiness directive (AD) by July 7, 2025.

(b) Affected ADs

This AD replaces AD 2020-06-13, Amendment 39-19882 (85 FR 19080, April 6, 2020).

(c) Applicability

This AD applies to Airbus Helicopters Model AS332C, AS332C1, AS332L, and AS332L1 helicopters, certificated in any category.

(d) Subject

Joint Aircraft System Component (JASC) Code 6330, Main rotor transmission mount.

(e) Unsafe Condition

This AD was prompted by tests and analyses performed by the manufacturer. The FAA is issuing this AD to prevent fatigue failure of the main gearbox (MGB) suspension bar attachment fittings and bolts by remaining in service beyond their fatigue life. The unsafe condition, if not addressed, could result in failure of an MGB attachment assembly, detachment of an MGB suspension bar, and consequent loss of control of the helicopter.

(f) Compliance

Comply with this AD within the compliance times specified, unless already done.

(g) Requirements

Except as specified in paragraphs (h) and (i) of this AD: Comply with all required actions and compliance times specified in, and in accordance with, European Union Aviation Safety Agency AD 2023-0194R1, dated March 19, 2025 (EASA AD 2023-0194R1).

Note 1 to paragraph (g): EASA AD 2023-0194R1 and Airbus Helicopters material that is referenced in EASA AD 2023-0194R1 refer to MGB suspension bar attachment “bolts” as “screws.”

Note 2 to paragraph (g): Table No. 1 of Airbus Helicopters Alert Service Bulletin No. AS332-53.02.13, Revision 1, dated April 5, 2024, identifies the helicopter group configurations referenced in EASA AD 2023-0194R1.

(h) Exceptions to EASA AD 2023-0194R1

(1) Where EASA AD 2023-0194R1 requires compliance in terms of flight hours, this AD requires using hours time-in-service.

(2) Where EASA AD 2023-0194R1 refers to its effective date, December 17, 2018 (the effective date of EASA AD 2018-0260, dated December 3, 2018), or November 22, 2023 (the effective date of EASA AD 2023-0194, dated November 8, 2023), this AD requires using the effective date of this AD.

(3) Where the material referenced in EASA AD 2023-0194R1 specifies discarding parts, this AD requires removing those parts from service.

(4) This AD does not adopt paragraphs (3) through (5) of EASA AD 2023-0194R1.

(5) Where paragraphs (2) and (6) of EASA AD 2023-0194R1 state “paragraph 3.B.3,” this AD requires replacing that text with “paragraphs 3.B.2. and 3.B.3.”

(6) Where the modification ASB, as defined and referenced in EASA AD 2023-0194R1, specifies contacting Airbus Helicopters Technical Support if there is visible damage, a crack, or insufficient clearance after replacing hardware, this AD requires, before further flight, accomplishing further action in accordance with a method approved by the Manager, International Validation Branch, FAA; EASA; or Airbus Helicopters' EASA Design Organization Approval (DOA). If approved by the DOA, the approval must include the DOA-authorized signature.

(7) Where the modification ASB, as defined and referenced in EASA AD 2023-0194R1, specifies to keep parts after removing, for this AD, keeping these parts is not required.

(8) Where the modification ASB, as defined and referenced in EASA AD 2023-0194R1, specifies repairing X3855 frame drilling kit (also identified as a Guide having part number X530P8102101 and referred to as Item “zz”), this AD prohibits using X3855 frame drilling kit for the actions required by this AD if there is any damage that consists of cracks, corrosion, lengthening or deformation of the rods or arms, or excessive wear.

(9) Sections 11 through 14 in Appendix 4.A. of the modification ASB, as defined and referenced in EASA AD 2023-0194R1, are not required by this AD.

(10) This AD does not adopt the Remarks section of EASA AD 2023-0194R1.

(i) No Reporting Requirement

Although the material referenced in EASA AD 2023-0194R1 specifies to submit information to the manufacturer, this AD does not require these actions.

(j) Alternative Methods of Compliance (AMOCs)

(1) The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (k)(1) of this AD and email to: AMOC@faa.gov.

(2) Before using any approved AMOC, notify your appropriate principal inspector, or lacking a principal inspector, the manager of the responsible Flight Standards Office.

(k) Additional Information

(1) For more information about this AD, contact Camille Seay, Aviation Safety Engineer, FAA, 1600 Stewart Avenue, Suite 410, Westbury, NY 11590; phone: (817) 222-5149; email: camille.l.seay@faa.gov.

(2) For material identified in this AD that is not incorporated by reference, contact Airbus Helicopters, 2701 North Forum Drive, Grand Prairie, TX 75052; phone: (972) 641-0000 or (800) 232-0323; fax: (972) 641-3775; website: airbus.com/en/products-services/helicopters/hcare-services/airbusworld.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2023-0194R1, dated March 19, 2025.

(ii) [Reserved]

(3) For EASA material identified in this AD, contact EASA, Konrad-Adenauer-Ufer 3, 50668 Cologne, Germany; phone: +49 221 8999 000; email: ADs@easa.europa.eu; website: easa.europa.eu. You may find this material on the EASA website at ad.easa.europa.eu.

(4) You may view this material at FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on May 15, 2025.
Steven W. Thompson,
Acting Deputy Director, Compliance & Airworthiness Division, Aircraft Certification Service.

[FR Doc. 2025-09095 Filed 5-22-25; 8:45 am]

BILLING CODE 4910-13-P